DEPARTMENT OF TRANSPORTATION

Federal Railroad Administration

Notice of Funding Opportunity for Rail Research and Development Center of Excellence

AGENCY: Federal Railroad Administration (FRA), Department of Transportation (DOT).

ACTION: Notice of funding opportunity (NOFO or notice).

SUMMARY: This notice details the application requirements and procedures to obtain funding to establish and maintain a Rail Research and Development Center of Excellence. This NOFO solicits applications for the Rail Research and Development Center of Excellence funds made available by the Consolidated Appropriations Act, 2022, and the Consolidated Appropriations Act, 2023. The opportunity described in this notice is made available under Assistance Listings Number 20.313 Railroad Research and Development.

DATES: Applications for funding under this solicitation are due no later than 5:00 p.m. ET July 3, 2023. Applications that are incomplete or received after 5:00 p.m. ET on June 16, 2023 will not be considered for funding. See section D of this notice for additional information on the application process.

ADDRESSES: Applications must be submitted via www.Grants.gov. Only applicants who comply with all submission requirements described in this notice and submit applications through www.Grants.gov will be eligible for award. For any supporting application materials that an applicant is unable to submit via www.Grants.gov (such as oversized engineering drawings), an applicant may submit an original and two (2) copies to FRA-NOFO-Support@dot.gov.

FOR FURTHER INFORMATION CONTACT: For further information regarding project- or program-related information in this notice, please contact Tarek Omar, Office of Research, Development, and Technology, Federal Railroad Administration, 1200 New Jersey Avenue SE, Room W36-306, Washington, DC 20590; email: tarek.omar@dot.gov; phone: 202-493-6189. Grant application submission and processing questions should be addressed to FRA-NOFO-Support@dot.gov.

SUPPLEMENTARY INFORMATION:

Notice to applicants: FRA recommends that applicants read this notice in its entirety prior to preparing application materials. The definitions of key terms used throughout the NOFO are listed under the Program Description in section A(2). There are several administrative prerequisites and specific eligibility requirements described herein that applicants must comply with to submit an application. Additionally, applicants should note that the required Program Narrative component of the application package may not exceed 40 pages in length.

Table of Contents

A. Program Description

B. Federal Award Information

C. Eligibility Information

D. Application and Submission Information

E. Application Review Information

F. Federal Award Administration Information

G. Federal Awarding Agency Contacts

H. Other Information

A. Program Description

1. Overview

On November 15, 2021, President Biden signed into law the Infrastructure Investment and Jobs Act, also known as the Bipartisan Infrastructure Law (BIL). Public Law 117-58. The BIL authorized the Secretary of Transportation to fund a rail research and development center of excellence (CoE) to advance research and development that improves the safety, efficiency, and reliability of passenger and freight rail transportation. 49 U.S.C. 20108. The Secretary is authorized to fund the cost of establishing and maintaining the CoE and related research activities. Only one CoE may be established, but that CoE may reside at one institution or be a consortium of member institutions.

The CoE would provide funding to entities that meet the criteria in 49 U.S.C. 20108(j)(2) for research activities that would include basic and applied research, evaluation, education, workforce development, and training efforts related to safety, project delivery, efficiency, reliability, resiliency, and sustainability of urban commuter, intercity high-speed and freight rail transportation, to include advances in rolling stock, advanced Positive Train Control, human factors, rail infrastructure, shared corridors, grade crossing safety, inspection technology, remote sensing, rail systems maintenance, network resiliency, operational reliability, energy efficiency, and other advanced technologies. 49 U.S.C. 20108(j)(4). The purpose of this notice is to solicit applications to establish and maintain a CoE for the purpose of pursuing such eligible rail research and development activities. In this NOFO, “CoE Program” refers to the activities to maintain and establish the CoE, and “Project” refers to the research activities conducted by the CoE or its subrecipients.

FRA is committed to advancing safe, efficient transportation, including through the research developed by the CoE Program.

In addition, FRA seeks to fund projects under the CoE Program that reduce greenhouse gas emissions in the transportation sector, incorporate evidence-based climate resilience measures and features, reduce the lifecycle greenhouse gas emissions from the project materials, and avoid adverse environmental impacts to air or water quality, wetlands, and endangered species, and address the disproportionate negative environmental impacts of transportation on disadvantaged communities, consistent with Executive Order 14008, Tackling the Climate Crisis at Home and Abroad (86 FR 7619).

FRA also seeks to award projects under the CoE Program will create proportional beneficial impacts to all populations in a project area, remove transportation related disparities to all populations in a project area, and increase equitable access to project benefits, consistent with Executive Order 13985, Advancing Racial Equity and Support for Underserved Communities Through the Federal Government (86 FR 7009).

Finally, FRA intends to use the projects resulting from the CoE Program to support the creation of good-paying jobs with the free and fair choice to join a union and the incorporation of strong labor standards and training and placement programs, especially registered apprenticeships, in project planning stages, consistent with Executive Order 14025, Worker Organizing and Empowerment (86 FR 22829), and Executive Order 14052, Implementation of the Infrastructure Investment and Jobs Act (86 FR 64335). FRA also intends to use the CoE Program to support wealth creation, consistent with the Department's Equity Action Plan through the inclusion of local inclusive economic development and entrepreneurship such as the utilization of disadvantaged business enterprises, minority-owned businesses, women-owned businesses, or 8(a) firms.

Section E of this NOFO, which outlines the grant selection criteria, describes the process for selecting a CoE. Section F(3) describes progress and performance reporting requirements for the selected CoE Program, and as applicable, Projects.

2. Definitions of Key Terms

a. “Consortium,” for the purpose of this NOFO, means a meaningful arrangement with all members involved in planning and implementing the proposed activity or activities. A consortium is a long-term relationship between and among the members and will last for the full performance of the activity. In this NOFO, consortium refers to both the arrangement that may exist among members to establish the CoE or the arrangement between entities eligible to receive funding from the CoE.

b. “Institution of higher education” (“IHE”) is an educational institution in any State that (1) admits as regular students only persons having a certificate of graduation from a school providing secondary education, or the recognized equivalent of such a certificate, or persons who meet the requirements of 20 U.S.C. 1091(d); (2) is legally authorized within such State to provide a program of education beyond secondary education; (3) provides an educational program for which the institution awards a bachelor's degree or provides not less than a 2-year program that is acceptable for full credit toward such a degree, or awards a degree that is acceptable for admission to a graduate or professional degree program, subject to review and approval by the Secretary of Education; (4) is a public or other nonprofit institution; and (5) is accredited by a nationally recognized accrediting agency or association, or if not so accredited, is an institution that has been granted pre-accreditation status by such an agency or association that has been recognized by the Secretary of Education for the granting of pre-accreditation status, and the Secretary of Education has determined that there is satisfactory assurance that the institution will meet the accreditation standards of such an agency or association within a reasonable time. “Institution of higher education” also includes (1) any school that provides not less than a 1-year program of training to prepare students for gainful employment in a recognized occupation and that meets the provision of paragraphs (1), (2), (4), and (5) of 20 U.S.C. 1001(a); and (2) a public or nonprofit private educational institution in any State that, in lieu of the requirement in subsection 20 U.S.C. 1001(a)(1), admits as regular students individuals who (1) are beyond the age of compulsory school attendance in the State in which the institution is located; or (2) who will be dually or concurrently enrolled in the institution and a secondary school.

c. “Minority-serving institution” (MSI) means an IHE whose enrollment of a single minority or a combination of minorities exceeds 50 percent of the total enrollment, as defined in section 365 of the Higher Education Act of 1965 (HEA) (20 U.S.C. 1067k). 20 U.S.C. 1067k defines the term “minority” to mean: “American Indian, Alaskan Native, Black (not of Hispanic origin), Hispanic (including persons of Mexican, Puerto Rican, Cuban, and Central or South American origin), Pacific Islander or other ethnic group underrepresented in science and engineering.” If the application includes any minority-serving institution(s) according to the definition in 20 U.S.C. 1067k, then for each such institution provide enrollment numbers, from the most recent semester/term where numbers are available, that show the institution meets the definition stated here.

d. Hispanic-serving institution (HSI) means an IHE that is (1) an eligible institution under 20 U.S.C.1101(a)(2); and (2) has an enrollment of undergraduate full-time equivalent students that is at least 25 percent Hispanic students at the end of the award year immediately preceding the date of application.

e. Historically Black colleges and universities (HBCU) are institutions established prior to 1964 whose principal mission was, and is, the education of Black Americans, and must (1) satisfy section 322 of the HEA, as amended; (2) be legally authorized by the State in which it is located to be a junior or community college; or to provide an educational program for which it awards a bachelor's degree; and (3) be accredited or pre-accredited by a nationally recognized accrediting agency or association.

f. “National Environmental Policy Act (NEPA)” is a Federal law that requires Federal agencies to analyze and document the environmental impacts of a proposed action in consultation with appropriate Federal, State, and local authorities, and with the public. NEPA classes of action include the Environmental Impact Statement, Environmental Assessment, or Categorical Exclusion. The NEPA class of action depends on the nature of the proposed action, its complexity, and its potential impacts. For purposes of this NOFO, NEPA also includes all related Federal laws and regulations, including the Clean Air Act (42 U.S.C. 7401 et seq.), section 4(f) of the Department of Transportation Act, section 7 of the Endangered Species Act, and section 106 of the National Historic Preservation Act. Additional information regarding FRA's environmental processes and requirements are located on the FRA website.

g. “Transformation” means to design for the future, invest in purpose-driven research and innovation to meet the challenges of the present, and modernize a transportation system of the future that serves everyone today and in the decades to come.

B. Federal Award Information

1. Available Award Amount

The total funding available for an award under this NOFO is $ 2.5 million, annually, subject to the availability of funds. The combined funding amount available for fiscal years 2022 and 2023 under this NOFO is $5 million. Should additional CoE Program funds become available in fiscal year 2024 after the release of this NOFO, FRA may elect to award such additional funds to the CoE Program selected under this NOFO.

2. Award Size

Each year, for a total of three years, FRA anticipates providing $2.5 million to the CoE, subject to the availability of appropriations. The total amount available for the first two years of funding under this award is $5 million—$2.5 million for fiscal year 2022 and $2.5 million for fiscal year 2023. An additional $2.5 million will be made available in fiscal year 2024 subject to the availability of appropriations. The period of performance for the grant to establish and maintain the CoE will be 3 years, after which FRA will conduct a new competition, depending on funding availability. There are no predetermined maximum dollar thresholds for individual projects funded through the CoE. The CoE may fund multiple subawards with the available funding. (see section E, Application Review Information). The CoE Program and individual projects may require more funding than is available. FRA strongly encourages applicants to identify and include other State, local, public, or private funding or financing to support the CoE Program (and projects funded through the CoE, as applicable).

3. Award Type

FRA will make awards for the CoE Program selected under this notice through a cooperative agreement. Cooperative agreements allow for substantial Federal involvement in carrying out the agreed-upon award, including technical assistance, review of interim work products, and increased program oversight. The term “grant” is used throughout this document and refers to funding awarded through a cooperative agreement. The funding provided under this NOFO will be made available to grantees on a reimbursable basis. Grantees must be able to certify that expenditures are allowable, allocable, reasonable, and necessary to the approved activity before seeking reimbursement from FRA. Additionally, the grantee is expected to expend matching funds at the required percentage, as described in section C.2 of this NOFO, concurrent with Federal funds throughout the life of the CoE Program. See an example of standard terms and conditions for FRA grant awards on the FRA website. This template is subject to revision.

C. Eligibility Information

This section of the notice explains applicant eligibility, cost sharing and matching requirements, Program eligibility and project eligibility. Applications that do not meet the requirements in this section will be ineligible for funding. Instructions for submitting eligibility information to FRA are detailed in section D of this NOFO.

1. Eligible Applicants

Eligible applicants are those with strong past performance related to rail research, education, and workforce development activities; whose proposal would involve public and private sector passenger and freight railroad operators in establishing and maintaining the CoE; and would have regional and national impacts that align with DOT Strategic Goals.

Applications must identify an eligible applicant as the lead applicant. An application may identify entities that are not eligible applicants as project partners to the extent of such entities' proposed participation. If an application proposes multiple institutions to form the CoE together, the application must still identify a lead applicant. The lead applicant will serve as the primary point of contact for the application, and as the grantee of the CoE Program grant award; responsibilities for administering the CoE should be described in the CoE Description and Statement of Work in section D.

2. Cost Sharing or Matching

The Federal share of total costs of establishing and maintaining the CoE and any related research activities funded under this notice will not exceed 50 percent. The estimated total cost to an applicant must be based on the best available information.

The minimum 50 percent non-Federal share may be comprised of public sector (e.g., State or local) or private sector funding. FRA will not consider any Federal financial assistance, nor any non-Federal funds already expended (or otherwise encumbered) toward the matching requirement unless compliant with 2 CFR 200, including 2 CFR 200.458. In-kind contributions, including the donation of services, materials, and equipment, may be credited as a project cost, in a uniform manner consistent with 2 CFR 200.306. Applicants must identify the source(s) of their matching and other leveraged funds, and must clearly and distinctly reflect these funds as part of the total Program cost in the application budget.

Funding under this NOFO may not be used for costs that are included in, or used to meet cost sharing or matching requirements of, any other federally financed award or program. If the applicant is seeking additional funding for a project that has already received Federal financial assistance, costs associated with the scope of work for the existing Federal award are not eligible for funding under this NOFO. Only new projects selected under this award are eligible for funding under this NOFO.

Before applying, applicants should carefully review the principles for cost sharing or matching in 2 CFR 200.306. See section D for required application information on non-Federal match and section E for further discussion of FRA's consideration of matching funds in the review and selection process. FRA will only approve pre-award costs consistent with 2 CFR 200.458, as applicable. See section D(6).

3. Other

a. Program Eligibility

The CoE Program must establish and maintain a center to advance research and development that improves the safety, efficiency, and reliability of passenger and freight rail transportation. The overarching goal of the Program and all projects receiving funding through the CoE should be transformation, which is one of the DOT Strategic Goals. The components of the CoE Program eligible for funding under this NOFO are establishing the CoE, maintaining the CoE, and providing funding for Projects consistent with the requirements in 49 U.S.C. 20108(j). To fund such Projects, the CoE will evaluate Project applications and provide funding to entities that meet the eligibility criteria in 49 U.S.C. 20108(j)(2) for Projects consistent with goals described in 49 U.S.C. 20108(j)(4).

Projects eligible for funding through the CoE and consistent with this NOFO must be for basic and applied research, evaluation, education, workforce development, and training efforts related to safety, project delivery, efficiency, reliability, resiliency, and sustainability of urban commuter, intercity high-speed, and freight rail transportation—to include advances in rolling stock, advanced Positive Train Control, human factors, rail infrastructure, shared corridors, grade crossing safety, inspection technology, remote sensing, rail systems maintenance, network resiliency, operational reliability, energy efficiency, and other advanced technologies. The following entities are eligible applicants to receive a grant from the CoE, established pursuant to section A.1: An IHE (as defined in section 101 of HEA [20 U.S.C. 1001]) or a consortium of nonprofit IHEs. Members of the CoE may carry out certain Projects eligible under the Program.

A portion of the funds will be directed to activities consistent with 49 U.S.C. 20108(j)(1), and a portion of the funds will be directed to subrecipients for Projects consistent with section 20108(j)(4). Agreements with subrecipients must comply with the requirements in 2 CFR 200, including but not limited to 200.331, 200.332, and 200.333. FRA will review the recipient's process for selecting subrecipients or contractors to ensure compliance with Federal requirements.

D. Application and Submission Information

Required documents for the application are outlined in the following paragraphs. Applicants must complete and submit all components of the application. See section D(2) for the application checklist. FRA welcomes the submission of other relevant supporting documentation that the applicant would like to submit.

1. Address To Request Application Package

Application materials may be accessed at http://www.Grants.gov. Applicants must submit all application materials in their entirety through http://www.Grants.gov no later than 5:00 p.m. ET on July 3, 2023. Applicants are strongly encouraged to apply early to ensure all materials are received before the application deadline, as it may take a number of weeks to establish a Grants.gov account. FRA reserves the right to modify this deadline. General information for submitting applications through Grants.gov can be found at the FRA website. FRA is committed to ensuring that information is available in appropriate alternative formats to meet the requirements of persons with disabilities. If you require an alternative version of files provided, please contact Laura Mahoney, Office of the Chief Financial Officer, Federal Railroad Administration, 1200 New Jersey Avenue SE, Washington, DC 20590; email laura.mahoney@dot.gov; phone: 202-578-9337.

2. Content and Form of Application Submission

FRA urges applicants to read this section carefully. Applicants must submit all required information and components of the application package to be considered for funding. Late applications or those missing required documentation will not be considered. Applicants may provide additional documents to support an application.

All application materials must be written in Times New Roman font, 12-point, with 8.5 x 11″ with 1″ margins; tables and figures may deviate from this standard. Do not rely on hyperlinks to external websites that provide supplemental content to the information contained in the proposal, as reviewers will be instructed not to view them.

Required documents for an application package are outlined in the checklist below.

a. Program Narrative

(1) Program Narrative Elements

This section describes the minimum content required in the Program Narrative component of the application. The Program Narrative must follow the basic outline below to address the Program requirements and assist evaluators in locating relevant information.

I. Cover Page | See D.2.a.(1)(a).
II. Program Summary | See D.2.a.(1)(b).
III. Program Funding Summary | See D.2.a.(1)(c).
IV. Applicant Eligibility | See D.2.a.(1)(d).
V. Program Eligibility | See D.2.a.(1)(e).
VI. Location | See D.2.a.(1)(f).
VII. Detailed CoE Description and Research Plan | See D.2.a.(1)(g).
VIII. Meeting the Evaluation and Selection Criteria | See D.2.a.(1)(h).
IX. Program Implementation and Management | See D.2.a.(1)(i).
X. DOT Strategic Goals | See D.2.a.(1)(j).

The above content must be provided in a narrative statement submitted by the applicant. The Program Narrative may not exceed 40 pages in length (excluding cover page, table of contents, and supporting documentation). If supporting documents are submitted, applicants must clearly identify the page number(s) in the Program Narrative that the documentation supports. The Program Narrative must adhere to the following outline:

(a) Cover Page: Include a cover page that lists the following elements in either a table or formatted list: title; location (i.e., city, State, congressional district); applicant organization name; name of any other institutions the applicant proposed to be members of the CoE; any participating MSIs and/or HBCUs; Federal funding requested under this NOFO; and proposed non-Federal match; other sources of Federal funding, if applicable; and total CoE Program cost.

(b) Program Summary: Provide a brief, 4-6-sentence summary of the proposed CoE Program and what the CoE Program will entail, including the types of Projects the applicant intends to conduct or cause to be conducted. Include challenges the proposed CoE Program aims to address, and summarize the intended outcomes and anticipated benefits that will result.

(c) Program Funding Summary: Indicate, in table format, the amount of Federal funding requested, the proposed non-Federal match, identifying contributions from the private sector if applicable, and total CoE Program cost. Identify the source(s) of matching and other funds, and clearly and distinctly reflect these funds as part of the total CoE Program cost in the application budget. If applicable, provide the type and estimated value of any proposed in-kind contributions, as well as substantiate how the contributions meet the requirements in 2 CFR 200.306.

Additionally, describe the proposed approach to allocating funds for establishing the COE, maintaining the CoE and for conducting research Projects, including how funds will be allocated for research conducted by other eligible entities. Include, as attachments or in an appendix, funding commitment letters outlining funding agreements. If Federal funding is proposed as a match, demonstrate the applicant's determination of eligibility for such use, and the legal basis for that determination. Also, note if the requested Federal funding under this NOFO or other programs must be obligated or spent by a certain date due to dependencies or relationships with other Federal or non-Federal funding sources, related projects, law, or other factors. Finally, specify whether Federal funding for the CoE Program has previously been sought, and identify the Federal program and fiscal year of the funding request(s), as well as highlight new or revised information in this CoE Program application that differs from the application(s) to other financial assistance programs.

Example Program Funding Table:

Task # | Task name/project component | Cost | Percentage of total cost
1 |  |  |
2 |  |  |
Total Program Cost |  |
Federal Funds Received from Previous Grant (if any) |  |
Federal Funding Request |  |
Non-Federal Funding/Match | Cash:
| In-Kind:
Portion of Non-Federal Funding from Private Sector |  |
Pending Federal Funding Requests |  |

(d) Applicant Eligibility: Explain how the applicant meets the applicant eligibility criteria outlined in section C of this notice. If the application is proposing a CoE with multiple members (i.e., a consortium), the application must be signed by an authorized representative of each member and must include a description of the roles and responsibilities of each member, including budget and subrecipient information showing how the members will share CoE Program costs and how research activities will be conducted.

(e) Program Eligibility: Identify how the program that the applicant intends to pursue meets the criteria identified in section C(3) of this notice. Include challenges the proposed program aims to address, and summarize the intended outcomes and anticipated benefits that will result.

(f) Location: Include the address of the lead applicant and all other members in the consortium, if applicable, as well as the location of potential research activities, if known.

(g) Detailed CoE Description and Research Plan: Include a detailed CoE Program description that expands upon the brief program summary. This detailed description should provide, at a minimum, background on the challenges the CoE Program aims to address; the expected users and beneficiaries of the CoE Program, including all railroad operators, if applicable; the specific components and elements of the CoE Program; the suggested basic and applied research and its potential impacts; how the applicant would conduct any research in-house as well as in collaboration with consortium members (if applicable); how the applicant would announce, evaluate for selection, and fund research projects conforming to the research areas identified in section C(3) and any other information the applicant deems necessary to justify the proposed CoE Program. The applicant must delineate and describe the cost to establish the CoE, maintain the CoE, and costs to be used for research projects. The applicant must also include how it plans to administer CoE research funds through subawards, including a plan for providing the following information to FRA: identifying the subrecipient (particularly if the applicant has information on specific potential subrecipients); the role of the subrecipient; and how the applicant plans to monitor the subrecipient. Include a description of how the applicant intends to ensure Projects funded through the CoE meet the eligibility criteria in section C(3). The applicant should address how the proposed CoE Program will meet the Transformation goal to design for the future and invest in purpose-driven research and innovation to meet the challenges of the present and modernize a transportation system of the future that serves everyone today and in the decades to come.¹ The applicant should identify how the proposed Program will match research and policy to advance breakthroughs; foster experimentation to identify new ideas; involve collaboration to accelerate the adoption of innovations and technologies; and provide flexibility and adaptability for transportation system investments to accommodate and respond to changing needs and capabilities to provide long-term benefits. To that end, the Program description should address how it will evaluate and select projects for subawards pursuant to 49 U.S.C. 20108(j)(4). Applicants must provide information about proposed performance measures, as described in section F(3) and required in 2 CFR 200.301. Further, applicants must provide plans for taking affirmative steps to employ small businesses, consistent with 2 CFR 200.321.

¹ U.S. Department of Transportation, Strategic Plan FY 2022-2026.

(h) Meeting the Evaluation and Selection Criteria: Include a thorough discussion of how the proposed Program meets all the evaluation criteria and selection criteria, as outlined in section E of this notice. If an application does not sufficiently address how the proposal meets the evaluation and selection criteria, it is unlikely to be a competitive application.

(i) Program Implementation and Management: Describe proposed Program implementation and project management arrangements. Include descriptions of the expected arrangements for project contracting, contract oversight, change-order management, risk management, and conformance to Federal requirements for project progress reporting. Describe past experience in managing and overseeing similar projects. Additionally, CoE grantees must conduct technology transfer to make research results available to potential users in a form that can be implemented, utilized, commercialized, or otherwise applied. Describe the technology transfer activities that the applicant will undertake to ensure the successful transfer of information and technology to those who can use it, especially current transportation practitioners. Provide examples of prior experience in outreach, dissemination, and technology transfer activities related to transportation research and education.

(j) DOT Strategic Goals: Applicants are encouraged to describe efforts to consider safety, climate change and sustainability impacts, efforts to improve equity and reduce barriers to opportunity in project planning, as well as how the project will transform the nation's transportation infrastructure within the project area or wider rail network to improve operations, increase capacity, and maintain existing assets. In addition, applicants should describe how planning activities and Program delivery actions advance good-paying, quality jobs and workforce programs and hiring policies that promote workforce inclusion. Additional information about strong labor standards that grant award recipients will be expected to meet are described below in Administrative and National Policy Requirements (section F(2)).

(2) Additional Application Elements

Applicants must submit the following documents and forms. Note, the Standard OMB Forms needed for the electronic application process are at www.Grants.gov.

(a) A Statement of Work (SOW) addressing the objective, scope, schedule, budget, and performance measures for the proposed Program if the applicant were selected for award. The SOW must contain sufficient detail so FRA, and the applicant, can understand the expected outcomes of the proposed work to be performed as well as the eligibility of the work under this NOFO, and can monitor progress toward completing tasks and deliverables during a prospective grant's period of performance. The SOW should also describe how funds will be budgeted across consortium members (if applicable). Applicants may use FRA's standard SOW, schedule, budget, and performance measures templates to guide their submissions. The four templates are labeled Example General Grants—Attachments 2-5 and are located on the FRA website. When preparing the budget, the total cost of a project must be based on the best available information as indicated in cited references.

(b) Curriculum vitae for key personnel, limited to two pages per individual.

(c) Environmental compliance. After selection, FRA will work with the grantee(s) to ensure compliance with NEPA, section 106 of the National Historic Preservation Act of 1966, as amended, and other applicable environmental laws.

(d) SF 424—Application for Federal Assistance.

(e) SF 424A—Budget Information for Non-Construction or SF 424C—Budget Information for Construction.

(f) SF 424B—Assurances for Non-Construction or SF 424D—Assurances for Construction.

(g) FRA F 30—Certifications Regarding Debarment, Suspension and Other Responsibility Matters, Drug-Free Workplace Requirements, and Lobbying, located at: https://railroads.dot.gov/elibrary/fra-f-30-certifications-regarding-debarment-suspension-and-other-responsibility-matters.

(h) FRA F 251—Applicant Financial Capability Questionnaire.

(i) SF LLL—Disclosure of Lobbying Activities.

3. Unique Entity Identifier (UEI), System for Award Management (SAM), and Submission Instructions

To apply for funding through Grants.gov, applicants must be properly registered in SAM before submitting an application, provide a valid unique entity identifier in its application, and continue to maintain an active SAM registration as described in detail below. Complete instructions on how to register and submit an application can be found at www.Grants.gov. Registering with Grants.gov is a one-time process; however, it can take up to several weeks for first-time registrants to receive confirmation and a user password. FRA recommends that applicants start the registration process as early as possible to prevent delays that may preclude submitting an application package by the application deadline. Applications will not be accepted after the due date. Delayed registration is not an acceptable justification for an application extension.

FRA may not make a grant award to an applicant until the applicant has complied with all applicable UEI and SAM requirements. (Note that if a UEI number must be obtained or renewed, this may take a significant amount of time to complete.) If an applicant has not fully complied with these requirements by the time the Federal awarding agency is ready to make an award, the agency may determine that the applicant is not qualified to receive a Federal award and use that determination as a basis for making a Federal award to another applicant. Late applications that are the result of a failure to register or comply with Grants.gov applicant requirements in a timely manner will not be considered. If an applicant has not fully complied with the requirements by the submission deadline, the application will not be considered. To submit an application through Grants.gov, applicants must:

a. Register with the SAM at www.SAM.gov.

All applicants for Federal financial assistance must maintain current registrations in the SAM database. An applicant must be registered in SAM to successfully register in Grants.gov. The SAM database is the repository for standard information about Federal financial assistance applicants, recipients, and subrecipients. Organizations that have previously submitted applications via Grants.gov are already registered with SAM, as it is a requirement for Grants.gov registration. Please note, however, that applicants must update or renew their SAM registration at least once per year to maintain an active status. Therefore, it is critical to check registration status well in advance of the application deadline. If an applicant is selected for an award, the applicant must maintain an active SAM registration with current information throughout the period of the award. Information about SAM registration procedures is available at www.sam.gov.

b. Obtain a Unique Entity Identifier

On April 4, 2022, the Federal Government discontinued using DUNS numbers. The DUNS number was replaced by a new, non-proprietary identifier that is provided by the System for Award Management (SAM.gov). This new identifier is called the UEI, or the Entity ID. To find or request a Unique Entity Identifier, please visit www.sam.gov.

c. Create a Grants.gov Username and Password

Applicants must complete an Authorized Organization Representative (AOR) profile on www.Grants.gov and create a username and password. Applicants must use the organization's UEI number to complete this step. Additional information about the registration process is available at: https://www.grants.gov/web/grants/applicants/organization-registration.html.

d. Acquire Authorization for Your AOR From the E-Business Point of Contact (E-Biz POC)

The applicant organization's E-Biz POC must respond to the registration email from Grants.gov and log in at www.Grants.gov to authorize the applicant as the AOR. Please note there can be more than one AOR for an organization.

e. Submit an Application Addressing All Requirements Outlined in This NOFO

If an applicant experiences difficulties at any point during this process, please call the Grants.gov Customer Center Hotline at 1-800-518-4726, 24 hours a day, 7 days a week (closed on Federal holidays). For information and instructions on each of these processes, please see instructions at: http://www.grants.gov/web/grants/applicants/apply-for-grants.html

4. Submission Dates and Times

Applicants must submit complete applications to www.Grants.gov no later than 5:00 p.m. ET, July 3, 2023. Applicants will receive a system-generated acknowledgement of receipt. FRA reviews www.Grants.gov information on dates/times of applications submitted to determine the timeliness of submissions. Late applications will be neither reviewed nor considered. Delayed registration is not an acceptable reason for late submission. To apply for funding under this announcement, all applicants are expected to be registered as an organization with Grants.gov. Applicants are strongly encouraged to apply early to ensure all materials are received before this deadline. To ensure a fair competition of limited discretionary funds, the following conditions are not valid reasons to permit late submissions: (1) failure to complete the Grants.gov registration process before the deadline; (2) failure to follow Grants.gov instructions on how to register and apply as posted on its website; (3) failure to follow all the instructions in this NOFO; and (4) technical issues experienced with the applicant's computer or information technology environment.

5. Intergovernmental Review

Executive Order 12372 requires applicants from State and local units of government or other organizations providing services within a State to submit a copy of the application to the State Single Point of Contact (SPOC), if one exists, and if this program has been selected for review by the State. Applicants must contact their State SPOC to determine if the program has been selected for State review.

6. Funding Restrictions

Consistent with 2 CFR 200.458, FRA, as applicable, will only approve pre-award costs if such costs are incurred pursuant to the negotiation and in anticipation of the grant agreement and if such costs are necessary for the efficient and timely performance of the scope of work. Under 2 CFR 200.458, grantees must seek written approval from the administering agency for pre-award activities to be eligible for reimbursement under the grant. Activities initiated prior to the execution of a grant or without written approval may not be eligible for reimbursement or included as a grantee's matching contribution.

7. Other Submission Requirements

If an applicant experiences difficulties at any point during this process, please call the Grants.gov Customer Center Hotline at 1-800-518-4726, 24 hours a day, 7 days a week (closed on Federal holidays). For information and instructions on each of these processes, please see instructions at: http://www.grants.gov/web/grants/applicants/apply-for-grants.html.

For any supporting application materials that an applicant cannot submit via Grants.gov, such as oversized engineering drawings, an applicant may submit an original and two (2) copies to Tarek Omar, Federal Railroad Administration, Room W38-306 1200 New Jersey Avenue SE, Washington, DC 20590, or a copy via email: FRA-NOFO-Support@dot.gov. However, due to delays caused by enhanced screening of mail delivered via the U.S. Postal Service, FRA advises applicants to use other means of conveyance (such as courier service) to assure timely receipt of materials before the application deadline. Additionally, if documents can be obtained online, explaining to FRA how to access files on a referenced website may also be sufficient.

Note: Please use generally accepted formats such as .pdf, .doc, .docx, .xls, .xlsx, and .ppt when uploading attachments. While applicants may embed picture files, such as .jpg, .gif, and .bmp in document files, applicants should not submit attachments in these formats. Additionally, the following formats will not be accepted: .com, .bat, .exe, .vbs, .cfg, .dat, .db, .dbf, .dll, .ini, .log, .ora, .sys, and .zip.

E. Application Review Information

1. Criteria

a. Eligibility and Completeness Review

FRA will first screen each application for applicant and Program eligibility (eligibility requirements are outlined in section C of this notice), completeness (application documentation and submission requirements are outlined in section D of this notice), and the 50 percent minimum match in determining whether the application is eligible. Any application FRA finds ineligible during this screen will not be advanced to evaluation.

b. Evaluation Criteria

FRA will evaluate all eligible and complete applications using the evaluation criteria outlined in this section to determine program benefits and technical merit.

(1) Program Benefits

FRA will evaluate the anticipated benefits of the proposed Program detailed in the Program Narrative, budget and CoE description. Considerations include:

(a) The applicant's demonstrated leadership capacity to address rail transportation problems and advance rail transportation expertise and technology. This should include:

(i) Examples of applicant's high standing within the national arena of rail transportation research as evidenced by activities such as publications, committee work, participation in professional transportation organizations and conferences (e.g., presentations, steering committees, session chairs, etc.), awards, and other indicators of leadership excellence.

(ii) The extent to which the CoE Program will have regional and national impacts and examples of the applicant's experience in contributing to the solution of local, regional, and/or national rail transportation problems.

(iii) Demonstrated leadership in the development and delivery of programs. This includes innovative rail transportation education, workforce development, technology transfer, and research activities.

(b) The extent to which the applicant will involve public and private sector passenger and freight railroad operators and the composition of any existing or planned stakeholder engagement and/or other entity, expected to provide technical input as research is being conducted.

(c) The degree to which the applicant's proposed activities are multimodal and multidisciplinary in scope, and how such an emphasis improves or expands the quality of the research.

(d) The extent of the applicant's background in education and workforce development efforts. How the applicant's management of the CoE and proposed projects will result in the development of a transportation workforce that is prepared to design, deploy, operate, and maintain the complex transportation systems of the future. How the applicant's engagement in this Program will be leveraged to support education and workforce development activities.

(e) Evidence of a commitment to working with underrepresented/underserved communities. This commitment can be demonstrated if the applicant is an MSI or HBCU; if applicant is partnering with an MSI or HBCU; and/or if the applicant has a demonstrated association with other stakeholder group or groups representing or serving underrepresented/underserved communities. Each applicant that is not a MSI or a HBCU is encouraged to partner with an MSI or HBCU, or other organization representing underserved/underrepresented communities and submit a joint application. This is in keeping with several Executive Orders. Executive Order 13985 (January 20, 2021) states in section 6 that “The Federal Government should, consistent with applicable law, allocate resources to address the historic failure to invest sufficiently, justly, and equally in underserved communities, as well as individuals from those communities.” Executive Order 14041 (September 3, 2021), in section 2(b)(D), promotes “strengthening the capacity of HBCUs to participate in Federal programs, access Federal resources, including grants and procurement opportunities, and partner with Federal agencies.” And Executive Order 14045 (September 13, 2021) established a Presidential Advisory Commission to investigate and suggest to the President “ways to strengthen the capacity of institutions, such as [Hispanic-serving institutions] (HSIs), to equitably serve Hispanic and Latino students and increase the participation of Hispanic and Latino students, Hispanic-serving school districts, and the Hispanic community in the programs of the Department [of Education] and other agencies.”

(f) The extent to which a proposal incorporates Executive Order 14008 (January 27, 2021) in its research plans. Executive Order on Tackling the Climate Crisis at Home and Abroad demands a government-wide approach to the crisis, “to build a modern and sustainable infrastructure, deliver an equitable, clean energy future, and put the United States on a path to achieve net-zero emissions, economy-wide, by no later than 2050.”

(g) The extent to which the application demonstrates the applicant's ability and preparation to support meaningful research soon after the grant is awarded.

(2) Technical Merit

The evaluation of Technical Merit will include an assessment of:

(a) The applicant's existing expertise and ability to evaluate, support, and, as applicable, conduct any proposed research activities, including:

(i) Examples of significant impacts of related past rail research, including a description of products or patents, or a change in practice, or instances of informing policy decisions.

(ii) Examples of research included in peer-reviewed journals, publications, and conferences that exemplifies an applicant's experience in the topical subject matter and/or with the research methods, data sources, stakeholders, etc., relevant to the chosen topic.

(iii) Qualifications of faculty and staff expected to be involved in the applicant's proposed activities.

(b) The research resources and existing programs already available to evaluate, conduct, and oversee any proposed research activities, including those at consortium universities including, if relevant to the transportation research:

(i) Dedicated laboratory space

(ii) Specialized computer or other technical equipment

(iii) IHE support personnel with particular knowledge of transportation research needs

(c) Demonstrated experience and approach to successfully selecting, managing and overseeing subawards and contracts consistent with 2 CFR part 200, and plans for evaluating Project proposals for subawards including whether such plans include assessment for technical merit, alignment with research objectives and the DOT Strategic Goal of Transformation. This will include an assessment of the applicant's experience and proposed approach to informing FRA about its work including subreipient identity, applicant's role, and magnitude of funds transferred.

(d) The performance metrics (at least two) that the applicant proposes to assess its performance and subrecipient performance in meeting research project and CoE goals; and how the applicant will obtain and maintain the information included in those metrics.

(e) Applicant's management approach and procedures, and how it will implement planning activities and produce results in an effective, timely, and cost-efficient manner, including:

(i) Plans for overall management and oversight of fiscal and technical activities, including methods for budgeting funds across all consortium members, ensuring cost efficiency, and a demonstration of the ability to implement the grant in a cost-efficient and timely manner.

(ii) The extent to which the applicant has demonstrated commitment to, and implementation of, peer review and other research best practices in the selection and management of projects that meet the eligibility criteria described in 49 U.S.C. 20108(j)(4) and section C(3).

(iii) If submitting a joint application, details on how tasks and oversight responsibilities will be distributed.

c. Selection Criteria

(1) Selection Preference: In addition to the eligibility and completeness review and the evaluation criteria outlined in this subsection, FRA will apply selection preferences for:

(a) The extent to which an applicant demonstrates strong past performance in rail research, education, and workforce development. This includes such examples as developing transformative research, incorporating climate and clean energy priorities in research, a demonstrated ability to achieve workforce development goals, MSI/HBCU participation, a commitment to underrepresented/underserved communities and economic equity, and the involvement of public and private sector passenger and freight railroads.

(b) The extent to which an application proposes a non-Federal share of total project costs greater than 50 percent.

(2) Strategic Goals: FRA will also consider the extent to which the Program addresses the following additional DOT Strategic Goals:

(a) Safety. FRA will assess the Program's ability to foster a safe transportation system for the movement of goods and people, consistent with the Department's Strategic Goal to reduce transportation-related fatalities and serious injuries across the transportation system. Such considerations will include, but are not limited to, the extent to which the Program will improve safety at highway-rail grade crossings, reduce rail-related trespassing, upgrade infrastructure to achieve a higher level of safety.

(b) Economic Strength and Global Competitiveness. Infrastructure Investment and Job Creation. In support of Executive Order 14025, Worker Organizing and Empowerment (86 FR 22829), and Executive Order 14052, Implementation of the Infrastructure Investment and Jobs Act (86 FR 64335), FRA will assess the Program's ability to contribute to economic progress stemming from infrastructure investment and associated job creation in the industry. Such considerations will include, but are not limited to, the extent to which the CoE will support the development of a transportation workforce that is prepared to plan, design, deploy, operate, and maintain the complex transportation systems of the future. As part of these efforts, applications must demonstrate a Center's commitment to broadening participation and attracting new entrants to the transportation field in order to enhance diversity and inclusion. Diversity is considered to be the inclusion of the many communities, identitiesm races, ethnicities, backgrounds, abilities, cultures, and beliefs of the American people, including underserved communities, and any other attributes identified as needing to be addressed.

(c) Equity. In support of Executive Order 13985, Advancing Racial Equity and Support for Underserved Communities Through the Federal Government (86 FR 7009) and Executive Order 14008, Tackling the Climate Crisis at Home and Abroad (86 FR 7619), FRA will assess the Program's ability to address equity and barriers to opportunity, to the extent possible within the program and consistent with law. Such considerations will include, but are not limited to, the applicant's plan for using small businesses to complete projects, the extent to which the program improves or expands transportation options for underserved communities, mitigates the safety risks and detrimental quality of life effects that rail lines can have on communities, especially those that might have been historically disconnected due to railroad infrastructure, and expands workforce development and career pathway opportunities to foster a more diverse rail industry. This will also include community engagement efforts already taken or planned, the extent to which engagement efforts are designed to reach impacted communities, whether engagement is accessible for persons with disabilities or limited English-proficient persons within the impacted communities, and how community feedback is considered in decision-making.

(d) Climate and Sustainability. In support of Executive Order 14008, Tackling the Climate Crisis at Home and Abroad, FRA will assess the Program's ability to reduce the harmful effects of climate change and anticipate necessary improvements to prepare for extreme weather events. Such considerations will include, but are not limited to, the extent to which the Program supports reductions in emissions, promotes energy efficiency, increases resiliency, and recycles or redevelops existing infrastructure.

(e) Transformation. FRA will assess the Program's ability to design for the future and invest in purpose-driven research and innovation to meet the challenges of the present and modernize a transportation system of the future that serves everyone today and in the decades to come. FRA will also assess the extent to which a proposal could be defined as “transformative,” in a DOT context. Examples of the DOT Transformation strategies from the FY 2022-26 DOT Strategic Plan include:

(i) University partnerships that bring new science into practice.

(ii) Exploratory research and experimentation, translating developments from other fields into transportation.

(iii) Bringing new voices into the research conversation.

(iv) Conducting research to understand the needs and implications of emerging transportation technologies such as automation and unmanned aerial systems, transportation system use and operations, and infrastructure design.

2. Review and Selection Process

FRA will conduct a four-part application review process:

a. Screen applications for completeness, eligibility, and the minimum match.

b. Apply evaluation criteria to remaining applications (completed by a technical evaluation panel).

c. Apply selection criteria and recommend the selected applicant for the FRA Administrator's review, which includes senior leadership from the Office of the Secretary and FRA; and

d. Select recommended award for the Secretary's or his designee's review and approval (completed by the FRA Administrator).

3. Reporting Matters Related to Integrity and Performance

Before making a Federal award with a total amount of Federal share greater than the simplified acquisition threshold of $250,000 (see 2 CFR 200.88 Simplified Acquisition Threshold), FRA will review and consider any information about the applicant that is in the designated integrity and performance system accessible through SAM (currently the Federal Awardee Performance and Integrity Information System (FAPIIS)). See 41 U.S.C. 2313.

An applicant, at its option, may review information in the designated integrity and performance systems accessible through SAM and comment on any information about itself that a Federal awarding agency previously entered and is currently in the designated integrity and performance system accessible through SAM.

FRA will consider any comments by the applicant, in addition to the other information in the designated integrity and performance system, in making a judgment about the applicant's integrity, business ethics, and record of performance under Federal awards when completing the review of risk posed by applicants as described in 2 CFR 200.205.

F. Federal Award Administration Information

1. Federal Award Notice

FRA will announce applications selected for funding in a press release and on the FRA website after the application review period. This announcement is FRA's notification to successful and unsuccessful applicants alike. FRA will contact applicants with successful applications after the announcement with information and instructions about the award process. This notification is not an authorization to begin proposed Project activities. FRA requires satisfaction of applicable requirements by the applicant and a formal agreement signed by both the grantee and FRA, including an approved scope, schedule, and budget, before obligating the grant. See an example of standard terms and conditions for FRA grant awards at https://railroads.dot.gov/elibrary/notice-grant-award-example . This template is subject to revision.

2. Administrative and National Policy Requirements

In connection with any program or activity conducted with or benefiting from funds awarded under this notice, grantees must comply with all applicable requirements of Federal law, including, without limitation: the Constitution of the United States; the relevant authorization and appropriations; the conditions of performance, nondiscrimination requirements and other assurances made applicable to the award of funds; and applicable Federal financial assistance and contracting principles promulgated by the Office of Management and Budget (OMB). In complying with these requirements, grantees, in particular, must ensure that no concession agreements are denied, or other contracting decisions made on the basis of speech or other activities protected by the First Amendment. If FRA determines a grantee has failed to comply with applicable Federal requirements, FRA may terminate the award of funds and disallow previously incurred costs, requiring the grantee to reimburse any expended award funds. See an example of standard terms and conditions for FRA grant awards at https://railroads.dot.gov/elibrary/award-administration-and-grant-conditions. This template is subject to revision.

Examples of administrative and national policy requirements include: 2 CFR 200; procurement standards at 2 CFR 200 subpart D—Procurement Standards; 2 CFR 200.317 and 2 CFR 200.401; compliance with Federal civil rights laws and regulations; disadvantaged business enterprises requirements; debarment and suspension requirements; drug-free workplace requirements; FRA's and OMB's Assurances and Certifications; Americans with Disabilities Act; safety requirements; NEPA; environmental justice requirements; and 2 CFR 200.315, governing rights to intangible property. Unless otherwise stated in statutory or legislative authority, or appropriations language, all financial assistance awards follow the Uniform Administrative Requirements, Cost Principles and Audit Requirements for Federal Awards at 2 CFR 200 and 2 CFR 1201.

Domestic Preference Requirements

As expressed in Executive Order 14005, Ensuring the Future Is Made in All of America by All of America's Workers (86 FR 7475), the executive branch should maximize, consistent with law, the use of goods, products, and materials produced in, and services offered in, the United States. Assistance under this NOFO is subject to the requirements in the Buy American Act (41 U.S.C. 8301-8305) and Build America, Buy America Act, Public Law 117-58, sections 70901-52. In addition, as expressed in Executive Order 14005, Ensuring the Future Is Made in All of America by All of America's Workers (86 FR 7475), it is the policy of the executive branch to maximize, consistent with law, the use of goods, products, and materials produced in, and services offered in, the United States. FRA expects all applicants to comply with that requirement without needing a waiver.

Civil Rights and Title VI

As a condition of a grant award, grantees should demonstrate that the recipient has a plan for compliance with civil rights obligations and nondiscrimination laws, including title VI of the Civil Rights Act of 1964 and implementing regulations (49 CFR 21), the Americans with Disabilities Act of 1990 (ADA), and section 504 of the Rehabilitation Act, all other civil rights requirements, and accompanying regulations. This should include a current Title VI plan, completed Community Participation Plan, and a plan to address any legacy infrastructure or facilities that are not compliant with ADA standards. DOT's and the applicable Operating Administrations' Office of Civil Rights may work with awarded grantees to ensure full compliance with Federal civil rights requirements.

Critical Infrastructure Security and Resilience

It is the policy of the United States to strengthen the security and resilience of its critical infrastructure against both physical and cyber threats. Each applicant selected for Federal funding under this notice must demonstrate, prior to the signing of the grant agreement, effort to consider and address physical and cyber security risks relevant to the transportation mode and type and scale of the project. Projects that have not appropriately considered and addressed physical and cyber security and resilience in their planning, design, and project oversight, as determined by the Department and the Department of Homeland Security, will be required to do so before receiving funds for construction, consistent with Presidential Policy Directive 21—Critical Infrastructure Security and Resilience and the National Security Presidential Improving Cybersecurity for Critical Infrastructure Control Systems

3. Reporting and Evaluation

a. Progress Reporting on Grant Activity

Each applicant selected for a grant will be required to comply with all standard FRA reporting requirements, including quarterly progress reports, quarterly Federal financial reports, and interim and final performance reports, as well as all applicable auditing, monitoring, and close-out requirements. Reports may be submitted electronically.

The applicant must comply with all relevant requirements of 2 CFR 200. Pursuant to 2 CFR 170.210, non-Federal entities applying under this NOFO must have the necessary processes and systems in place to comply with the reporting requirements should they receive Federal funding.

b. Additional Reporting

Applicants selected for funding are required to comply with all reporting requirements in the standard terms and conditions for FRA grant awards including 2 CFR 180.335 and 2 CFR 180.350. See an example of standard terms and conditions for FRA grant awards at the FRA website.

As a condition of grant award, grantees may be required to participate in an evaluation undertaken by DOT or another agency or partner. The evaluation may take different forms such as an implementation assessment across grantees, an impact and/or outcomes analysis of all or selected sites within or across grantees, or a benefit/cost analysis or assessment of return on investment. DOT may require applicants to collect data elements to aid the evaluation and/or use information available through other reporting. As a part of the evaluation, as a condition of award, grantees must agree to: (1) make records available to the evaluation contractor or DOT staff; (2) provide access to program records, and any other relevant documents to calculate costs and benefits; (3) in the case of an impact analysis, facilitate the access to relevant information as requested; and (4) follow evaluation procedures as specified by the evaluation contractor or DOT staff.

c. Performance and Program Evaluation

As a condition of grant award grantees may be required to participate in an evaluation undertaken by DOT, or another agency or partner. The evaluation may take different forms such as an implementation assessment across grantees, an impact and/or outcomes analysis of all or selected sites within or across grantees, or a benefit/cost analysis or assessment of return on investment. The Department may require applicants to collect data elements to aid the evaluation. As a part of the evaluation, as a condition of award, grantees must agree to: (1) make records available to the evaluation contractor; (2) provide access to program records, and any other relevant documents to calculate costs and benefits; (3) in the case of an impact analysis, facilitate the access to relevant information as requested; and (4) follow evaluation procedures as specified by the evaluation contractor or DOT staff.

Recipients and sub-recipients are also encouraged to incorporate program evaluation including associated data collection activities from the outset of their program design and implementation to meaningfully document and measure the effectiveness of their projects and strategies. Title I of the Foundations for Evidence-Based Policymaking Act of 2018 (Evidence Act), Public Law 115-435 (2019) urges Federal awarding agencies and Federal assistance recipients and sub-recipients to use program evaluation as a critical tool to learn, to improve equitable delivery, and to elevate program service and delivery across the program lifecycle. Evaluation means “an assessment using systematic data collection and analysis of one or more programs, policies, and organizations intended to assess their effectiveness and efficiency” (codified at 5 U.S.C. 311). For grantees, evaluation expenses are allowable costs (either as direct or indirect), unless prohibited by statute or regulation, and such expenses may include the personnel and equipment needed for data infrastructure and expertise in data analysis, performance, and evaluation (2 CFR 200).

For grantees receiving an award, evaluation costs are allowable costs (either as direct or indirect), unless prohibited by statute or regulation, and such costs may include personnel and equipment needed for data infrastructure and expertise in data analysis, performance, and evaluation (2 CFR 200).

d. Performance Reporting

Each applicant selected for funding must collect information and report on the Program's and each subaward's performance using measures mutually agreed-upon by FRA and the grantee to assess progress in achieving strategic goals and objectives. The applicable measure(s) will depend upon the type of Project(s) funded through the CoE.

G. Federal Awarding Agency Contacts

For further information regarding this notice, please contact the FRA NOFO Support program staff via email at FRA-NOFO-Support@dot.gov. If additional assistance is needed, contact Tarek Omar, Office of Research, Development, and Technology, Federal Railroad Administration, 1200 New Jersey Avenue SE, Room W36-306, Washington, DC 20590; email: tarek.omar@dot.gov; phone: 202-493-6189.

H. Other Information

All information submitted as part of or in support of any application shall use publicly available data or data that can be made public and methodologies that are accepted by industry practice and standards, to the extent possible. If the application includes information the applicant considers to be personal identifiable information (PII) or a trade secret or confidential commercial or financial information, the applicant should do the following: (1) Note on the front cover that the submission “Contains PII or Confidential Business Information (CBI)”; (2) mark each affected page PII and/or “CBI”; and (3) highlight or otherwise denote the PII or CBI portions.

The DOT regulations implementing the Freedom of Information Act (FOIA) are found at 49 CFR 7 Subpart C—Availability of Reasonably Described Records under the Freedom of Information Act and sets forth rules for FRA to make requested materials, information, and records publicly available under FOIA. Unless prohibited by law and to the extent permitted under the FOIA, contents of application and proposals submitted by successful applicants may be released in response to FOIA requests.

The Department may share application information within the Department or with other Federal agencies if the Department determines that sharing is relevant to the respective program's objectives.

Issued in Washington, DC.
Amitabha Bose,
Administrator.

[FR Doc. 2023-09240 Filed 5-1-23; 8:45 am]

BILLING CODE 4910-06-P